DEPARTMENT OF TRANSPORTATION

National Highway Traffic Safety Administration

Reports, Forms and Record Keeping Requirements; Agency Information Collection Activity Under OMB Review

AGENCY: National Highway Traffic Safety Administration, U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on May 6, 2014 (79 FR 25984). The 60-day comment period ended on July 7, 2014. The agency received no comments.

DATES: Comments must be submitted on or before September 4, 2014.

ADDRESSES: Send comments, within 30 days, to the Office of Information and Regulatory Affairs, Office of Management and Budget, 725-17th Street NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it within 30 days of publication.

FOR FURTHER INFORMATION CONTACT: Ms. Deborah Mazyck at the National Highway Traffic Safety Administration, Office of International Policy, Fuel Economy and Consumer Programs, 1200 New Jersey Avenue SE., West Building, Room W43-443, Washington, DC 20590. Ms. Mazyck's telephone number is (202) 366-4139.

SUPPLEMENTARY INFORMATION: Title: Consolidated Federal Motor Vehicle Theft Prevention Standard, 49 CFR Part 541 and Procedures for Selecting Lines to be Covered by The Theft Prevention Standard, 49 CFR Part 542 (OMB Clearance Number 2127-0539).

OMB Number: 2127-0539.

Type of Request: Extension of a currently approved information collection

Abstract: The Motor Vehicle Information and Cost Savings Act was amended by the Anti-Car Theft Act of 1992 (Pub. L. 102-519). The enacted Theft Act requires specified parts of high-theft vehicle to be marked with vehicle identification numbers. In a final rule published on April 6, 2004, the Federal Motor Vehicle Theft Prevention Standard (49 CFR Part 541) was extended to include all passenger cars, multipurpose passenger vehicles and light duty trucks (LDTs) determined to be high-theft (with a gross vehicle weight rating of 6,000 pounds or less) and light duty trucks having major parts that are interchangeable with a majority of the covered major parts of a passenger motor vehicle subject to the theft prevention standard. Each major component part must be either labeled or affixed with the VIN, and its replacement component part must be marked with the DOT symbol, the letter (R) and the manufacturers' logo.

The final rule became effective September 1, 2006.

The 1984 Theft Act, as amended by ACTA, requires NHTSA to promulgate a theft prevention standard for the designation of high-theft vehicle lines. The specific lines are to be selected by agreement between the manufacturer and the agency. If there is a disagreement of the selection, the statute states that the agency shall select such lines and parts, after notice to the manufacturer and an opportunity for written comment. NHTSA's procedures for selecting high theft vehicle lines are contained in 49 CFR Part 542.

As a result of the April 2004 amendment, determination of high theft status is required only for new LDTs manufactured on or after September 1, 2006. There are seven vehicle manufacturers who produce LDTs. Generally, these manufacturers would not introduce more than one new LDT line in any year.

Affected Public: Vehicle manufacturers.

Estimated Total Annual Burden: The overall total estimated cost burden for this collection is approximately $82 million. The overall total estimated annual hour burden for this collection is 267, 356.

Under authority delegated in 49 CFR part 1.95.

David M. Hines,
Acting Associate Administrator for Rulemaking.

[FR Doc. 2014-18440 Filed 8-4-14; 8:45 am]

BILLING CODE 4910-59-P